DEPARTMENT OF HOMELAND SECURITY

Coast Guard

[Docket No. USCG-2011-0821]

Merchant Mariner Medical Advisory Committee

AGENCY: Coast Guard, DHS.

ACTION: Notice of federal advisory committee meeting.

SUMMARY: The Merchant Mariner Medical Advisory Committee (MMMAC) will hold its inaugural meeting starting Monday, September 19, and ending Wednesday September 21, 2011. The meetings will be open to the public.

DATES: MMMAC will meet on Monday, September 19, Tuesday, September 20, and Wednesday, September 21, 2011 from 8:30 a.m. to 4:30 p.m. Please note that the meeting may close early if the committee has completed its business.

ADDRESSES: The meeting will be held at the Calhoon Marine Engineers Beneficial Association (MEBA) Engineering School at 27050 Saint Michaels Road, Easton, MD 21601.

For information on facilities or services for individuals with disabilities or to request special assistance at the meeting, contact Anne Higgins, MEBA School Executive Assistant, 410-822-9600 Extension 338 as soon as possible.

To facilitate public participation, we are inviting public comment on the issues to be considered by the committee as listed in the “Summary” section below. Comments must be submitted in writing to the Coast Guard on or before September 12, 2011 and must be identified by USCG-2011-0821 and may be submitted by one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue, SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read background documents or comments related to this notice, go to http://www.regulations.gov.

Two public comment periods will be held during the meeting. The first public comment period will be held on Day 1 September 19, 2011 prior to the presentation of issues and task and the second comment period will be held on Day 3, September 21, 2011 from 10:00 to 11:00 a.m. Speakers are requested to limit their comments to 3 minutes. Please note that the public comment period may end before the time indicated, following the last call for comments. Additionally, public comment will be sought throughout the meeting as specific tasks and issues are discussed by the committee. Contact the individual listed below to register as a speaker.

FOR FURTHER INFORMATION CONTACT: Lieutenant Dylan McCall, the MMMAC Alternate Designated Federal Officer (ADFO), at telephone 202-372-1128 or e-mail Dylan.k.mccall@uscg.mil. If you have questions about the MEBA facility, contact Anne Higgins, MEBA School Executive Assistant, at telephone 410-822-9600 Extension 338 or e-mail ahiggins@mebaschool.org. If you have questions on viewing or submitting material to the docket, call Renee V. Wright, Program Manager, Docket Operations, telephone 202-366-9826.

SUPPLEMENTARY INFORMATION: Notice of this meeting is given under the Federal Advisory Committee Act, 5 U.S.C. App. (Pub. L. 92-463). The MMMAC is authorized by section 210 of the Coast Guard Authorization Act of 2010 (Pub. L. 111-281) and the Committee's purpose is to advise the Secretary on matters related to medical certification determinations for issuance of merchant mariner credentials; medical standards and guidelines for the physical qualifications of operators of commercial vessels; medical examiner education; and medical research.

Agenda

Day 1

(1) Opening comments by Designated Federal Officer (DFO), Captain E. P. Christensen;

(2) Introduction and swearing in of the new members;

(3) Remarks from Coast Guard Leadership, Rear Admiral J. A. Watson;

(4) Staff Administration issues;

(5) Designation of the Chair and Vice-Chair;

(6) Public Comments/Presentations; and

(7) Presentation of Issues and Tasks (Order of Presentations TBD);

—Briefing the committee on the Coast Guard's Mariner Credentialing Program and mariner evaluation process.

—Report of maritime casualties with a nexus to mariner medical issues.

—Form CG-719K & CG-719K/E—Review of the forms used by physicians for documenting the medical/fitness exams of merchant mariners and discussion of recommendations for improvement.

—Review of the most common mariner medical conditions leading to the denial of a mariner's application and discussion of applicable standards or guidance.

—Revising the Medical and Physical Evaluation Guidelines for Merchant Mariner Credentials, Navigation.

—and Vessel Inspection Circular No. 04-08 (NVIC 04-08).

—Discussion of the development of Designated Medical Examiners.

—Aging Mariners—Presentation to address the committee on the concerns with aging mariners. Discuss/Present how medical issues impact mariners as they age and the aged mariner is normally your more competent mariner.

(8) Acceptance of task statements by committee and establishment of work groups;

Day 2

Work groups meetings on tasks accepted by the committee.

Day 3

(1) Report of working groups;

(2) Public comments/presentations; and

(3) Closing remarks/plans for next meeting.

Dated: August 24, 2011.
J. A. Watson,
Rear Admiral, U.S. Coast Guard, Director of Prevention Policy.

[FR Doc. 2011-22197 Filed 8-29-11; 8:45 am]

BILLING CODE 9110-04-P